DEPARTMENT OF DEFENSE

Department of the Army; Corps of Engineers

Availability of a Final Integrated Feasibility Report (Feasibility Study/Environmental Impact Statement/Environmental Impact Report), Los Angeles River Ecosystem Restoration Study, City of Los Angeles, Los Angeles County, CA

AGENCY: Department of the Army, U.S. Army Corps of Engineers, DoD.

ACTION: Notice; extension of comment period.

SUMMARY: The comment period for the Final Integrated Feasibility Report (Feasibility Study/Environmental Impact Statement/Environmental Impact Report), Los Angeles River Ecosystem Restoration Study, City of Los Angeles, Los Angeles County, CA published in the Federal Register on Friday, September 25, 2015 (80 FR 57795) and required comments be submitted by October 24, 2015. The comment period has been extended to November 1, 2015.

FOR FURTHER INFORMATION CONTACT: Ms. Eileen Takata, U.S. Army Corps of Engineers, Los Angeles District, Eileen.K.Takata@usace.army.mil OR Ms. Erin Jones, U.S. Army Corps of Engineers, Los Angeles District, Erin.L.Jones@usace.army.mil.

SUPPLEMENTARY INFORMATION: None.

Kirk E. Gibbs,
Colonel, U.S. Army, Commander and District Engineer.

[FR Doc. 2015-26886 Filed 10-21-15; 8:45 am]

BILLING CODE 3720-58-P